DEPARTMENT OF ENERGY

Federal Energy Regulatory Commission

[Docket No. ER00-1053-004]

Maine Public Service Company; Notice of Filing

December 1, 2000.

Take notice that on November 3, 2000, Maine Public Service Company (MPS), tendered for filing Original Sheet No. 196 inadvertently omitted from the open access transmission tariff filed with the Commission on October 13, 2000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or December 11, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, http://www/ferc.fed.us/efi/doorbell.htm.

David P. Boergers,
Secretary.

[FR Doc. 00-31128 Filed 12-6-00; 8:45 am]

BILLING CODE 6717-01-M